ENVIRONMENTAL PROTECTION AGENCY

[FRL-8507-7]

Clean Water Act Section 303(d): Availability of 86 Total Maximum Daily Loads (TMDLs) in Arkansas

AGENCY: Environmental Protection Agency (EPA).

ACTION: Notice of availability.

SUMMARY: This notice announces the availability of the administrative record file for comment on 86 TMDLs and the calculations for these TMDLs prepared by EPA Region 6 for waters listed in the state of Arkansas under section 303(d) of the Clean Water Act (CWA). Several of these TMDLs available for notice, are being completed in response to the lawsuit styled Sierra Club, et al. v. Browner, et al., No. LR-C-99-114.

DATES: Comments must be submitted in writing to EPA on or before January 16, 2008.

ADDRESSES: Comments on the 86 TMDLs should be sent to Ms. Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for these TMDLs are available for public inspection at this address as well. Documents from the administrative record file may be viewed at http://www.epa.gov/region6/6wq/npdes/tmdl/index.htm, or obtained by calling (214) 665-2145 or writing Ms. Smith at the above address. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Browner, et al., No. LR-C-99-114. Among other claims, plaintiffs alleged that EPA failed to establish Arkansas TMDLs in a timely manner. EPA proposes these TMDLs pursuant to a consent decree entered in this lawsuit.

EPA Seeks Comments on 86 TMDLs

By this notice EPA is seeking comment on the following 86 TMDLs for waters located within the state of Arkansas:

Segment-reach | Waterbody name | Pollutant
08040102-016 | Caddo River | Copper and Zinc.
08040102-018 | Caddo River | Copper and Zinc.
08040102-019 | Caddo River | Copper and Zinc.
08040102-023 | South Fork Caddo R. | Copper and Zinc.
08040201-005 | Ouachita River | Copper and Zinc.
08040201-006 | Smackover Creek | Copper and Zinc.
08040201-007 | Smackover Creek | Copper and Zinc.
08040201-606 | El Dorado Chemical | Copper, Zinc., and Nitrate. Company Tributary.
08040202-002 | Ouachita River | Copper and Zinc.
08040202-004 | Ouachita River | Copper and Zinc.
08040202-006 | Bayou de L'Outre | TDS, Chloride, Sulfate., Copper, Zinc., and Lead.
08040202-007 | Bayou de L'Outre | TDS, Chloride, Sulfate., Copper. Zinc., and Lead.
08040202-008 | Bayou de L'Outre | TDS, Chloride, Sulfate., Copper, Zinc., and Lead.
08040203-007 | Saline River | TDS, Chloride, and Sulfate.
08040203-008 | Lost River | TDS, Chloride, and Sulfate.
08040203-009 | Saline River | TDS, Chloride, and Sulfate.
08040203-010 | Saline River | TDS, Chloride, and Sulfate.
08040203-904 | Big Creek | Lead., Siltation/Turbidity.
08040204-006 | Saline River | TDS, Chloride, and Sulfate.
08040205-001 | Bayou Bartholomew | TDS, Chloride, and Sulfate.
08040205-002 | Bayou Bartholomew | TDS, Chloride, and Sulfate.
08040205-007 | Cutoff Creek | Turbidity.
08040205-012U | Bayou Bartholomew | TDS, Chloride, and Sulfate.
08040205-013 | Bayou Bartholomew | TDS, Chloride, and Sulfate.
08040206-015 | Big Cornie Creek | Sulfate. and Zinc.
08040206-016 | Little Cornie Creek | Sulfate. and Zinc.
08040206-716 | Walker Branch | Sulfate. and Zinc.
08040206-816 | Little Cornie Creek | Sulfate. and Zinc.
08040206-916 | Walker Branch | Sulfate. and Zinc.
08020203-007 | Blackfish Bayou | Siltation/Turbidity.
08020203-005 | Blackfish Bayou | Siltation/Turbidity.
08020203-003 | Blackfish Bayou | Siltation/Turbidity.
08040101-048 | Prairie Creek | Siltation/Turbidity.
08040201-001U | Moro Creek | Siltation/Turbidity.
08040201-001L | Moro Creek | Siltation/Turbidity.
08040204-005 | Big Creek | Siltation/Turbidity.

EPA requests that the public provide to EPA any water quality related data and information that may be relevant to the calculations for these 86 TMDLs. EPA will review all data and information submitted during the public comment period and revise the TMDLs and determinations where appropriate. EPA will then forward the TMDLs to the Arkansas Department of Environmental Quality (ADEQ). The ADEQ will incorporate the TMDLs into its current water quality management plan.

Dated: December 10, 2007.
Miguel I. Flores,
Director, Water Quality Protection Division, EPA Region 6.

[FR Doc. E7-24380 Filed 12-14-07; 8:45 am]

BILLING CODE 6560-50-P